DEPARTMENT OF STATE

[Delegation of Authority No. 346-1]

Delegation by the Secretary of State to the Assistant Secretary for East Asian and Pacific Affairs of the Authority To Waive the Visa Ban Under Section 5(a) of Public Law 110-286

By virtue of the authority vested in the Secretary of State by the laws of the United States, including the State Department Basic Authorities Act, as amended (22 U.S.C. 2651a), Section 5(a) of the Tom Lantos Block Burmese Junta's Anti-Democratic Efforts (JADE) Act of 2008 (Pub. L. 110-286); and the Presidential Memorandum of August 29, 2012, I hereby delegate to the Assistant Secretary for East Asian and Pacific Affairs, to the extent authorized by law, the authority under Section 5(a)(2) of the JADE Act to waive the visa bans imposed pursuant to Section 5(a)(1) of Public Law 110-286.

Any act, executive order, regulation, or procedure subject to or affected by this delegation shall be deemed to be such act, executive order, regulation, or procedure as amended from time to time.

Notwithstanding this delegation of authority, the Secretary, the Deputy Secretary, or the Under Secretary for Political Affairs may at any time exercise any authority or function delegated by this delegation of authority.

This delegation of authority supersedes Delegation of Authority 346, dated October 1, 2012, and will be published in the Federal Register.

Dated: March 5, 2019.
Michael R. Pompeo,
Secretary of State, Department of State.

[FR Doc. 2019-06993 Filed 4-8-19; 8:45 am]

BILLING CODE 4710-30-P